DEPARTMENT OF TRANSPORTATION

Federal Aviation Administration

14 CFR Part 39

[Docket No. FAA-2008-0175; Directorate Identifier 2007-CE-105-AD; Amendment 39-15455; AD 2008-08-03]

RIN 2120-AA64

Airworthiness Directives; Pacific Aerospace Limited Model 750XL Airplanes

Correction

In rule document E8-7167 beginning on page 19967 in the issue of Monday, April 14, 2008 make the following correction:

§ 39.13 [Corrected]

On page 19968, in § 39.13(f), in the second line, “service May 19, 2008” should read “service after May 19, 2008”.

[FR Doc. Z8-7167 Filed 5-8-08; 8:45 am]

BILLING CODE 1505-01-D